NATIONAL SCIENCE FOUNDATION

Sunshine Act Meetings

The National Science Board's Awards and Facilities Committee hereby gives notice of the scheduling of a teleconference for the transaction of National Science Board business pursuant to the National Science Foundation Act and the Government in the Sunshine Act.

TIME AND DATE: Friday, November 4, 2022, from 2:00-3:00 p.m. EDT.

PLACE: This meeting will be held by videoconference through the National Science Foundation.

STATUS: Closed.

MATTERS TO BE CONSIDERED: The agenda of the teleconference is: Committee Chair's Opening Remarks; Antarctic research infrastructure strategy, including long-range budget, personnel, safety, and communications matters.

CONTACT PERSON FOR MORE INFORMATION: Point of contact for this meeting is: Amanda Vernon, avernon@nsf.gov, (703) 292-7000. Meeting information and updates may be found at www.nsf.gov/nsb.

Chris Blair,
Executive Assistant to the National Science Board Office.

[FR Doc. 2022-23577 Filed 10-26-22; 11:15 am]

BILLING CODE 7555-01-P